DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, the State Route 46 Corridor Improvement Project Antelope Grade Section, approximately 10 miles northeast of the community of Shandon in the County of San Luis Obispo and 32 miles northwest of the census-designated town of Lost Hills in the County of Kern, State of California. Those actions grant licenses, permits, and approvals for the project.

DATES: With this notice, the FHWA, on behalf of Caltrans, is advising the public of final agency actions subject to 23 U.S.C. 139(l)(1). A claim seeking judicial review of the federal agency's actions on the highway project will be barred unless the claim is filed on or before July 29, 2024. If the federal law that authorizes judicial review of a claim provides a time period of less than 150 days for filing such a claim, then that shorter time period still applies.

FOR FURTHER INFORMATION CONTACT: For Caltrans: Lucas Marsalek, Environmental Branch Chief, Caltrans District 5, 50 Higuera Street, San Luis Obispo, CA 93401, (805) 458-5408, lucas.marsalek@dot.ca.gov, Monday-Friday, 8 a.m. to 5 p.m. PST.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California: The State Route 46 Corridor Improvement Project Antelope Grade Section will begin at post mile 57.3 in San Luis Obispo County and will continue to post mile 0.4 in Kern County. Caltrans proposes to convert a 3.6-mile portion of State Route 46 from a two-lane highway to a four-lane expressway with a 62-foot median on a new alignment that roughly parallels the existing highway corridor to the north (FHWA Project Number: 0518000075). The actions by the federal agencies and the laws under which such actions were taken are described in the Final Updated Environmental Assessment (FEA) with Finding of No Significant Impact (FONSI) for the project, approved on January 2, 2024, and in other documents in the project records. The FEA, FONSI, and other project records are available by contacting Caltrans at the address provided above. The Caltrans FEA and FONSI can be viewed and downloaded from the project website at https://dot.ca.gov/caltrans-near-me/district-5/district-5-current-projects or viewed at public libraries in the project area.

This notice applies to all federal agency decisions as of the issuance date of this notice and all laws under which such actions were taken, including but not limited to:

1. National Environmental Policy Act of 1969

2. Clean Air Act, 42 U.S.C. 7401-7671

3. Endangered Species Act of 1973 (ESA), 16 U.S.C. 1531-1544

4. National Historic Preservation Act of 1966 (NHPA)

5. Clean Water Act, 33 U.S.C. 1251-1387 (sections 319, 401, and 404)

6. Surface Transportation Project Delivery Pilot Program (Pilot Program) [23 U.S.C. 327]

7. Interagency Cooperation, Endangered Species Act of 1973 [50 CFR 402]

8. Farmland Protection Policy Act (FPPA) [7 U.S.C. 4201-4209]

9. Energy Policy and Conservation Act of 1975 [42 U.S.C. 6201]

10. Determining Conformity of Federal Actions to State or Federal Implementation Plans [40 CFR 93]

11. Guidelines for Specification of Disposal Sites for Dredged or Fill Material [40 CFR 230]

12. Procedures for abatement of highway traffic noise and construction noise [23 CFR 772]

13. Farmland Protection Policy Act [7 CFR 658]

14. Protection of Historic Properties [36 CFR 800]

15. Cumulative Impact [40 CFR 1508.7]

16. Protection of Wetlands Executive Order 11990

17. Clean Water Act [33 U.S.C. 1344]

18. Invasive Species Executive Order 13112

19. Federal Migratory Bird Treaty Act [16 U.S.C. 703-711]

20. The Bald and Golden Eagle Protection Act [16 U.S.C. 668]

(Catalog of Federal Domestic Assistance Program Number 20.205, Highway Planning and Construction. The regulations implementing Executive Order 12372 regarding intergovernmental consultation on federal programs and activities apply to this program.)

Authority: 23 U.S.C. 139(l)(1).

Antonio Johnson,
Director of Planning, Environmental, and Right of Way, Federal Highway Administration, California Division.

[FR Doc. 2024-04189 Filed 2-28-24; 8:45 am]

BILLING CODE 4910-RY-P